DEPARTMENT OF AGRICULTURE

Forest Service

Submission for OMB Review; Comment Request

October 4, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by November 10, 2016 will be considered. Written comments should be addressed to: Desk Officer for Agriculture, Office of Information and Regulatory Affairs, Office of Management and Budget (OMB), New Executive Office Building, 725 17th Street NW., Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Cooperative Wildland Fire Management and Stafford Act Response Agreements.

OMB Control Number: 0596—NEW.

Summary of Collection: The primary authorities allowing for the agreements are the reciprocal Fire Protection Act, 42 U.S.C. 1856, and the Stafford Act, 42 U.S.C. 5121. The Forest Service (FS) is charged with the duty of providing fire protection for any property of the United States and is authorized to enter into a reciprocal agreement, with any fire organization maintaining fire protection facilities in the vicinity of such property, for mutual aid in furnishing fire protection for such property and for other property for which such organization normally provides fire protection.

Need and Use of the Information: To negotiate, develop, and administer Cooperative Wildland Fire Management and Stafford Act Response Agreements, the USDA FS, Department of Interior (DOI) Bureau of Land Management; Fish and Wildlife Service; National Park Service; and Bureau of Indian Affairs DOI must collect information from willing State, local, and Tribal governments from the pre-agreement to the closeout stage via telephone calls, emails, postal mail, and person-to-person meetings. The scope of information collected includes the project type, project scope, financial plan, statement of work, and cooperator's business information. Without the ability to collect the information from cooperator's FS and DOI would not be able to conduct any of the activities authorized. Agencies to this request would not be able to develop projects, make payment, monitor projects, identify financial and accounting errors, agree to roles and responsibilities, etc.

Description of Respondents: State, local and Tribal Governments.

Number of Respondents: 320.

Frequency of Responses: Reporting: On occasion.

Total Burden Hours: 47,040.

Charlene Parker,
Departmental Information Collection Clearance Officer.

[FR Doc. 2016-24402 Filed 10-7-16; 8:45 am]

BILLING CODE 3411-15-P